DEPARTMENT OF COMMERCE

National Oceanic and Atmospheric Administration

50 CFR Part 648

[Docket No. 000407096-0096-01; I.D. 031003B]

Fisheries of the Northeastern United States; Northeast (NE)Multispecies Fishery; Commercial Haddock Harvest

AGENCY: National Marine Fisheries Service (NMFS), National Oceanic and Atmospheric Administration (NOAA), Commerce.

ACTION: Notice of removal of haddock trip limit.

SUMMARY: NMFS announces that the Administrator, Northeast Region, NMFS (Regional Administrator) is suspending the haddock trip limit for the groundfish fishery for the remainder of the 2002 fishing year. The Regional Administrator has projected that less than 75 percent of the haddock target total allowable catch (TAC) will be harvested for the 2002 fishing year under the restrictive trip limits. This action is intended to allow fishermen to catch more of the haddock TAC, without exceeding it. Therefore, this action removes the haddock trip limit for the remainder of the 2002 fishing year.

DATES: Effective March 17, 2003 through April 30, 2003.

FOR FURTHER INFORMATION CONTACT: Susan Chinn, Fishery Management Specialist, 978-281-9218.

SUPPLEMENTARY INFORMATION: Framework Adjustment 33 to the NE Multispecies Fishery Management Plan, which became effective May 1, 2000, implemented the current haddock trip limit regulations (65 FR 21658, April 24, 2000). To ensure that haddock landings do not exceed the appropriate target TAC, Framework 33 established a haddock trip limit of 3,000 lb (1,360.8 kg) per NE Multispecies day-at-sea (DAS) fished and a maximum trip limit of 30,000 lb (13,608 kg) of haddock for the period May 1 through September 30; and 5,000 lb (2,268 kg) of haddock per DAS and 50,000 lb (22,680 kg) per trip from October 1 through April 30. Framework 33 also provided a mechanism to adjust the haddock trip limit based upon the percentage of TAC that is projected to be harvested. Section 648.86(a)(1)(iii)(B) specifies that, if the Regional Administrator projects that less than 75 percent of the haddock target TAC will be harvested in the fishing year, the trip limit may be adjusted. Further, this section stipulates that NMFS will publish notification in the Federal Register informing the public of the date of any changes to the trip limit.

The Regional Administrator has projected that, for fishing year 2002, Georges Bank haddock landings are estimated to be about 16,209,000 lb (7,352 mt), accounting for about 63 percent of the assumed target TAC (11,680 mt). Based on the March 2002 “Final Report of the Working Group on Re-Evaluation of Biological Reference Points for New England Groundfish,” the projected Georges Bank haddock target TAC for the 2002 fishing year is 17,337 mt (based on an average of the target TAC for the 2002 and 2003 calendar years). The projected 2002 landings for Georges Bank haddock with the trip limits in effect would use only about 42 percent of the target TAC (17,337 mt). Given that under current management measures less than 75 percent of the 2002 fishing year haddock target TAC is projected to be harvested by April 30, 2003, the Regional Administrator has determined that suspending the haddock trip possession limits will provide the industry with the opportunity to harvest at least 75 percent of the TAC for the 2002 fishing year.

Classification

This action is required by 50 CFR part 648 and is exempt from review under Executive Order 12866.

Authority: 16 U.S.C. 1801 et seq.

Dated: March 12, 2003
Richard W. Surdi,
Acting Director, Office of Sustainable Fisheries, National Marine Fisheries Service.

[FR Doc. 03-6304 Filed 3-12-03; 3:06 pm]

BILLING CODE 3510-22-S